DEPARTMENT OF ENERGY

Federal Energy Regulatory Commission

[Docket No. IC21-37-000]

Commission Information Collection Activities (Ferc-520); Comment Request; Extension

AGENCY: Federal Energy Regulatory Commission.

ACTION: Notice of information collection and request for comments.

SUMMARY: In compliance with the requirements of the Paperwork Reduction Act of 1995, the Federal Energy Regulatory Commission (Commission or FERC) is soliciting public comment on the currently approved information collection, FERC-520 (Application for Authority to Hold Interlocking Directorate Positions), which will be submitted to the Office of Management and Budget (OMB) for a review of the information collection requirements. The Commission published a 60-day notice on August 11, 2021 and received no comments.

DATES: Comments on the collection of information are due February 2, 2022.

ADDRESSES: Send written comments on FERC-520 to OMB through www.reginfo.gov/public/do/PRAMain, Attention: Federal Energy Regulatory Commission Desk Officer. Please identify the OMB control number (1902-0083) in the subject line. Your comments should be sent within 30 days of publication of this notice in the Federal Register.

Please submit a copy of your comments (identified by Docket No. IC21-37-000) to the Commission as noted below. Electronic filing through http://www.ferc.gov is preferred.

• Electronic Filing: Documents must be filed in acceptable native applications and print-to-PDF, but not in scanned or picture format.

• For those unable to file electronically, comments may be filed by USPS mail or by hand (including courier) delivery.

○ Mail via U.S. Postal Service Only to: Federal Energy Regulatory Commission, Secretary of the Commission, 888 First Street NE, Washington, DC 20426.

○ Hand (including courier) delivery to: Federal Energy Regulatory Commission, 12225 Wilkins Avenue, Rockville, MD 20852.

Instructions

OMB submissions must be formatted and filed in accordance with submission guidelines at www.reginfo.gov/public/do/PRAMain. Using the search function under the “Currently Under Review field,” select Federal Energy Regulatory Commission; click “submit” and select “comment” to the right of the subject collection.

FERC submissions must be formatted and filed in accordance with submission guidelines at: http://www.ferc.gov. For user assistance, contact FERC Online Support by email at ferconlinesupport@ferc.gov, or by phone at: (866) 208-3676 (toll-free).

Docket: Users interested in receiving automatic notification of activity in this docket or in viewing/downloading comments and issuances in this docket may do so at http://www.ferc.gov.

FOR FURTHER INFORMATION CONTACT: Ellen Brown may be reached by email at DataClearance@FERC.gov and telephone at (202) 502-8663.

SUPPLEMENTARY INFORMATION: Title: FERC-520 (Application for Authority to Hold Interlocking Directorate Positions).

OMB Control No.: 1902-0083.

Type of Request: Three-year extension of the FERC-520 information collection requirements with no revisions to the current requirements.

Abstract: FERC Form No. 520 is an application requesting FERC authorization for officers and directors of regulated public utilities to simultaneously hold positions of officers and directors of certain other entities. Section 305(b)(1) of the Federal Power Act (FPA) ¹ prohibits the holding of specific interlocking positions unless the Commission has authorized the holding of such positions upon a determination that neither public nor private interests will be adversely affected.

¹ 16 U.S.C 825d(b)(1).

FERC-520 consists of three information collection activities. A “full application,” in accordance with 18 CFR 45.8, provides detailed information about the positions for which authorization is sought, including a description of duties. Submission of a more streamlined “informational report,” in accordance with 18 CFR 45.9, is a condition for an automatic grant of authorization to hold interlocking directorates. This automatic authorization is available only to certain types of officers and directors. Finally, a “notice of change,” in accordance with 18 CFR 45.5, is required within 60 days after an officer or director resigns or withdraws from Commission-authorized interlocked positions or if the applicant is not re-elected or reappointed to the interlocked position. However, no notice of change is required if the only change is: (1) A resignation or withdrawal from fewer than all positions held between or among affiliated public utilities; (2) a reelection or reappointment to a position that was previously authorized; or (3) holding a different or additional interlocking position that would qualify for automatic authorization under 18 CFR 45.9.

The Commission published a 60-day notice on August 11, 2021 (86 FR 44013) and received no comments.

Types of Respondents: Officers and directors of public utilities seeking authorization to hold interlocking directorates.

Estimate of Annual Burden: The estimated annual hour burdens and costs are itemized in the following table:

| A. | B. | C. | D. | E.
| Number of respondents | Annual number of responses per respondent | Total number of responses (column A × column B) | Average burden & cost per response ² | Total annual burden hours & total annual cost (column C × column D)
Full Application | 16 | 1 | 16 | 50 hrs.; $4,350 | 800 hrs.; $69,600.
Informational Report | 500 | 1 | 500 | 8 hrs.; $696 | 4,000 hrs.; $348,000.
Notice of Change | 100 | 1 | 100 | 0.25 hrs.; $21.75 | 25 hrs.; $2,175.
Totals | 616 |  | 616 |  | 4,825 hrs.; $419,775.

Comments are invited on: (1) Whether the collection of information is necessary for the proper performance of the functions of the Commission, including whether the information will have practical utility; (2) the accuracy of the agency's estimate of the burden and cost of the collection of information, including the validity of the methodology and assumptions used; (3) ways to enhance the quality, utility and clarity of the information collection; and (4) ways to minimize the burden of the collection of information on those who are to respond, including the use of automated collection techniques or other forms of information technology.

² Commission staff estimates that the average industry hourly cost for this information collection is approximated by the current FERC 2021 average hourly costs for wages and benefits, i.e., $87.00/hour.

Dated: December 27, 2021.
Kimberly D. Bose,
Secretary.

[FR Doc. 2021-28418 Filed 12-30-21; 8:45 am]

BILLING CODE 6717-01-P